DEPARTMENT OF TRANSPORTATION

Federal Aviation Administration

14 CFR Part 39

[Docket No. FAA-2023-1409; Project Identifier MCAI-2022-01645-T]

RIN 2120-AA64

Airworthiness Directives; Airbus SAS Airplanes

AGENCY: Federal Aviation Administration (FAA), DOT.

ACTION: Notice of proposed rulemaking (NPRM).

SUMMARY: The FAA proposes to supersede Airworthiness Directive (AD) 2019-07-05, which applies to all Airbus SAS Model A318 series airplanes; Model A319-111, -112, -113, -114, -115, -131, -132, and -133 airplanes; Model A320-211, -212, -214, -216, -231, -232, and -233 airplanes; and Model A321-111, -112, -131, -211, -212, -213, -231, and -232 airplanes. AD 2019-07-05 requires repetitive inspections for cracking of the 10VU rack fitting lugs and repair of any cracking. Since the FAA issued AD 2019-07-05, it was determined that certain repetitive inspection intervals need to be revised. This proposed AD would retain the requirements of AD 2019-07-05, with reduced compliance times and would remove airplanes having a certain modification from the applicability. The FAA is proposing this AD to address the unsafe condition on these products.

DATES: The FAA must receive comments on this proposed AD by August 28, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1409; or in person at Docket Operations between 9 a.m. and 5 p.m., Monday through Friday, except Federal holidays. The AD docket contains this NPRM, the mandatory continuing airworthiness information (MCAI), any comments received, and other information. The street address for Docket Operations is listed above.

Material Incorporated by Reference:

• For Airbus SAS service information identified in this NPRM, contact Airbus SAS, Airworthiness Office—EIAS, Rond-Point Emile Dewoitine No: 2, 31700 Blagnac Cedex, France; telephone +33 5 61 93 36 96; fax +33 5 61 93 44 51; email account.airworth-eas@airbus.com; website airbus.com.

• You may view this service information at the FAA, Airworthiness Products Section, Operational Safety Branch, 2200 South 216th St., Des Moines, WA. For information on the availability of this material at the FAA, call 206-231-3195.

FOR FURTHER INFORMATION CONTACT: Timothy Dowling, Aviation Safety Engineer, FAA, 1600 Stewart Avenue, Suite 410, Westbury, NY 11590; phone 206-231-3667; email Timothy.P.Dowling@faa.gov.

SUPPLEMENTARY INFORMATION:

Comments Invited

The FAA invites you to send any written relevant data, views, or arguments about this proposal. Send your comments to an address listed under ADDRESSES. Include “Docket No. FAA-2023-1409; Project Identifier MCAI-2022-01645-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Timothy Dowling, Aviation Safety Engineer, FAA, 1600 Stewart Avenue, Suite 410, Westbury, NY 11590; phone 206-231-3667; email Timothy.P.Dowling@faa.gov. Any commentary that the FAA receives which is not specifically designated as CBI will be placed in the public docket for this rulemaking.

Background

The FAA issued AD 2019-07-05, Amendment 39-19616 (84 FR 16386, April 19, 2019; corrected May 10, 2019 (84 FR 20542)) (AD 2019-07-05), for all Airbus SAS Model A318 series airplanes; Model A319-111, -112, -113, -114, -115, -131, -132, and -133 airplanes; Model A320-211, -212, -214, -216, -231, -232, and -233 airplanes; and Model A321-111, -112, -131, -211, -212, -213, -231, and -232 airplanes. AD 2019-07-05 was prompted by an MCAI originated by the European Union Aviation Safety Agency (EASA), which is the Technical Agent for the Member States of the European Union. EASA issued AD 2018-0131, dated June 19, 2018 (EASA AD 2018-0131), to correct an unsafe condition.

AD 2019-07-05 requires repetitive inspections for cracking of the 10VU rack fitting lugs, and repair of any cracking. The FAA issued AD 2019-07-05 to address reading difficulties of flight-critical information displayed to the flightcrew during a critical phase of flight, such as an approach or takeoff, which could result in loss of airplane control at an altitude insufficient for recovery.

Actions Since AD 2019-07-05 Was Issued

Since the FAA issued AD 2019-07-05, EASA superseded EASA AD 2018-0131 and issued EASA AD 2022-0266, dated December 22, 2022 (EASA AD 2022-0266) (referred to after this as the MCAI) to correct an unsafe condition on certain Airbus SAS Model A318 series airplanes; Model A319-111, -112, -113, -114, -115, -131, -132, and -133 airplanes; Model A320-211, -212, -214, -215, -216, -231, -232, and -233 airplanes; and Model A321-111, -112, -131, -211, -212, -213, -231 and -232 airplanes. Model A320-215 airplanes are not certificated by the FAA and are not included on the U.S. type certificate data sheet; this proposed AD therefore does not include those airplanes in the applicability. Airplanes on which Airbus modification 157335 has been embodied in production are not included in the applicability because modification 157335 addresses the unsafe condition. The MCAI states that during an unscheduled maintenance operation on an A330 airplane, the 10VU rack was removed for access and cracks were discovered on 10VU rack side fittings on lugs 1, 3 and 4. As a similar design is installed on A320 family airplanes, a sampling review was done to determine the possible fleet impact. The result showed that several airplanes had cracked or broken 10VU rack side fittings. This condition, if not detected and corrected, could lead to a high vibration level on the primary flight and navigation displays during critical flight phases (take-off and landing), possibly creating reading difficulties for the crew.

Since EASA AD 2018-0131 was issued, it was determined that certain repetitive inspection intervals need to be revised, based on in-service reports and completed analysis. This proposed AD would retain the requirements of AD 2019-07-05, with reduced compliance times and airplanes on which Airbus modification 157335 has been embodied in production removed from the applicability. The FAA is proposing this AD to address reading difficulties of flight-critical information displayed to the flightcrew during a critical phase of flight, such as an approach or takeoff, which could result in loss of airplane control at an altitude insufficient for recovery.

You may examine the MCAI in the AD docket at regulations.gov under Docket No. FAA-2023-1409.

Related Service Information Under 1 CFR Part 51

The FAA reviewed Airbus Service Bulletins A320-92-1087, Revision 04, dated May 16, 2022; and A320-92-1119, Revision 02, dated May 16, 2022. This service information specifies procedures for repetitive inspections for cracking of the 10VU rack fitting lugs, and repair of any cracking. These documents are distinct since they apply to different airplane configurations. This service information is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI and service information described above. The FAA is issuing this NPRM after determining that unsafe condition described previously is likely to exist or develop on other products of the same type design.

Proposed AD Requirements in This NPRM

This proposed AD would retain certain requirements of AD 2019-07-05. This proposed AD would require accomplishing the actions specified in the service information described previously. This proposed AD would also require sending the inspection results to Airbus SAS.

Costs of Compliance

The FAA estimates that this AD, if adopted as proposed, would affect 461 airplanes of U.S. registry.

The FAA estimates the following costs to comply with this proposed AD:

Estimated Costs for Required Actions
Action | Labor cost | Parts cost | Cost per product | Cost on U.S. operators
Inspections (retained actions from AD 2019-07-05) | 2 work-hours × $85 per hour = $170 | $0 | $170 | $78,370

The FAA estimates that it would take about 1 work-hour per product to comply with the reporting requirement in this AD. The average labor rate is $85 per hour. Based on these figures, the FAA estimates the cost of reporting the inspection results on U.S. operators to be $85 per product.

The FAA estimates the following costs to do any necessary repairs that would be required based on the results of the inspection. The FAA has no way of determining the number of aircraft that might need these repairs:

Estimated Costs of On-Condition Actions
Labor cost | Parts cost | Cost per product
83 work-hours × $85 per hour = $7,055 | $9,140 | $16,195

Paperwork Reduction Act

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-07-05, Amendment 39-19616 (84 FR 16386, April 19, 2019; corrected May 10, 2019 (84 FR 20542)); and

b. Adding the following new AD:

Airbus SAS: Docket No. FAA-2023-1409; Project Identifier MCAI-2022-01645-T.

(a) Comments Due Date

The FAA must receive comments on this airworthiness directive (AD) by August 28, 2023.

(b) Affected ADs

This AD replaces AD 2019-07-05, Amendment 39-19616 (84 FR 16386, April 19, 2019; corrected May 10, 2019 (84 FR 20542)) (AD 2019-07-05).

(c) Applicability

This AD applies to the Airbus SAS airplanes identified in paragraphs (c)(1) through (4) of this AD, certificated in any category, all manufacturer serial numbers, except those on which Airbus modification 157335 has been embodied in production.

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 92, Electric and electronic common installation.

(e) Unsafe Condition

This AD was prompted by a report of cracks found during maintenance inspections on certain 10VU rack fitting lugs, and a determination that certain compliance times need to be revised. The FAA is issuing this AD to address reading difficulties of flight-critical information displayed to the flightcrew during a critical phase of flight, such as an approach or takeoff, which could result in loss of airplane control at an altitude insufficient for recovery.

(f) Compliance

Comply with this AD within the compliance times specified, unless already done.

(g) Retained Definitions, With No Changes

This paragraph restates the definitions of paragraph (g) of AD 2019-07-05, with no changes. For the purpose of this AD, Group 1 airplanes are in a pre-Airbus Modification 35869 configuration, and Group 2 airplanes are in a post-Airbus Modification 35869 configuration.

(h) Retained Repetitive Inspections, With Reduced Inspection Intervals and Revised Service Information

This paragraph restates the requirements of paragraph (h) of AD 2019-07-05, with reduced inspection intervals and revised service information.

(1) For Group 1 airplanes: At the later of the times specified in Figure 1 to paragraph (h)(1) of this AD, do a detailed inspection for cracking of the 10VU rack fitting lugs, in accordance with the Accomplishment Instructions of Airbus Service Bulletin A320-92-1087, Revision 04, dated May 16, 2022. Repeat the inspection thereafter at intervals not to exceed 10,000 flight cycles or 20,000 flight hours, whichever occurs first.

Figure 1 to paragraph (h)(1)—Initial Inspection Compliance Time for Group 1 Airplanes

(2) For Group 2 airplanes: At the later of the times specified in Figure 2 to paragraph (h)(2) of this AD, do a detailed inspection for cracking of the 10VU rack fitting lugs, in accordance with the Accomplishment Instructions of Airbus Service Bulletin A320-92-1119, Revision 02, dated May 16, 2022. Repeat the inspection thereafter at intervals not to exceed 10,000 flight cycles or 20,000 flight hours, whichever occurs first.

Figure 2 to paragraph (h)(2)—Initial Inspection Compliance Time for Group 2 Airplanes

(i) Retained Repair, With Revised Service Information

This paragraph restates the requirements of paragraph (i) of AD 2019-07-05, with revised service information. If any crack is found during any inspection required by paragraph (h)(1) or (2) of this AD: Before further flight, do a repair in accordance with the Accomplishment Instructions of Airbus Service Bulletin A320-92-1087, Revision 04, dated May 16, 2022 (for Group 1 airplanes); or Airbus Service Bulletin A320-92-1119, Revision 02, dated May 16, 2022 (for Group 2 airplanes); as applicable. Repair of a 10VU rack fitting lug does not terminate the repetitive inspections required by paragraphs (h)(1) and (2) of this AD.

(j) Reporting Requirement

At the applicable time specified in paragraph (j)(1) or (2) of this AD: Submit a report of findings (positive and negative) of each inspection required by paragraph (h) of this AD to Airbus Service Bulletin Reporting Online Application on Airbus World (airbus.com) or in accordance with B. “Reporting Sheet” of the Appendix of Airbus Service Bulletin A320-92-1087, Revision 04, dated May 16, 2022 (for Group 1 airplanes); or Airbus Service Bulletin A320-92-1119, Revision 02, dated May 16, 2022 (for Group 2 airplanes); as applicable.

(1) If the inspection was done on or after the effective date of this AD: Submit the report within 90 days after the inspection.

(2) If the inspection was done before the effective date of this AD: Submit the report within 90 days after the effective date of this AD.

(k) Credit for Previous Actions

(1) This paragraph provides credit for actions required by paragraphs (h)(1) and (i) of this AD, if those actions were performed before May 24, 2019 (the effective date of AD 2019-07-05), using Airbus Service Bulletin A320-92-1087, dated March 28, 2011, which is not incorporated by reference in this AD; or Airbus Service Bulletin A320-92-1087, Revision 01, dated May 17, 2011, which is not incorporated by reference in this AD; or Airbus Service Bulletin A320-92-1087, Revision 02, dated November 25, 2014, which was incorporated by reference in AD 2016-19-14.

(2) This paragraph provides credit for actions required by paragraphs (h)(1) and (i) of this AD, if those actions were performed before the effective date of this AD, using Airbus Service Bulletin A320-92-1087, Revision 03, dated July 31, 2017, which was incorporated by reference in AD 2019-07-05.

(3) This paragraph provides credit for actions required by paragraphs (h)(2) and (i) of this AD, if those actions were performed before the effective date of this AD, using Airbus Service Bulletin A320-92-1119, dated July 28, 2017, which was incorporated by reference in AD 2019-07-05; or Airbus Service Bulletin A320-92-1119, Revision 01, dated August 5, 2019, which is not incorporated by reference in this AD.

(4) This paragraph provides credit for the reporting required by paragraph (j)(2) of this AD, if that action was performed before the effective date of this AD in accordance with the instructions of Airbus Service Bulletin A320A-92-1087, Revision 03, dated July 31, 2017 (for Group 1 airplanes); or Airbus Service Bulletin A320-92-1119, dated July 28, 2017 (for Group 2 airplanes); as applicable; except where Figure A-FAAAA, Sheet 02, of Appendix 01, “Inspection Report,” of Airbus Service Bulletin A320-92-1087, Revision 03, dated July 31, 2017; and Figure A-FAAAA, Sheet 02, of Appendix 01, “Inspection Report,” of Airbus Service Bulletin A320-92-1119, dated July 28, 2017; specifies sending removed lugs to Airbus for investigation, that action is not required by this AD. Airbus Service Bulletin A320A-92-1087, Revision 03, dated July 31, 2017; and Airbus Service Bulletin A320-92-1119, dated July 28, 2017; were incorporated by reference in AD 2019-07-05.

(l) Additional AD Provisions

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (m)(2) of this AD or email to: 9-AVS-AIR-730-AMOC@faa.gov. If mailing information, also submit information by email.

(i) Before using any approved AMOC, notify your appropriate principal inspector, or lacking a principal inspector, the manager of the responsible Flight Standards Office.

(ii) Global AMOC AIR-676-19-305, dated July 29, 2019, approved as an AMOC for AD 2019-07-05, is approved as an AMOC for the corresponding provisions of this AD.

(2) Contacting the Manufacturer: For any requirement in this AD to obtain instructions from a manufacturer, the instructions must be accomplished using a method approved by the Manager, International Validation Branch, FAA; or the European Union Aviation Safety Agency (EASA); or Airbus SAS's EASA Design Organization Approval (DOA). If approved by the DOA, the approval must include the DOA-authorized signature.

(3) Required for Compliance (RC): Except as required by paragraph (l)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(m) Additional Information

(1) Refer to European Union Aviation Safety Agency (EASA) AD 2022-0266, dated December 22, 2022, for related information. This EASA AD may be found in the AD docket at regulations.gov under Docket No. FAA-2023-1409.

(2) For more information about this AD, contact Timothy Dowling, Aviation Safety Engineer, FAA, 1600 Stewart Avenue, Suite 410, Westbury, NY 11590; phone 206-231-3667; email Timothy.P.Dowling@faa.gov.

(3) Service information identified in this AD that is not incorporated by reference is available at the addresses specified in paragraphs (n)(3) and (4) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-92-1087, Revision 04, dated May 16, 2022.

(ii) Airbus Service Bulletin A320-92-1119, Revision 02, dated May 16, 2022.

(3) For service information identified in this AD, contact Airbus SAS, Airworthiness Office—EIAS, Rond-Point Emile Dewoitine No: 2, 31700 Blagnac Cedex, France; telephone +33 5 61 93 36 96; fax +33 5 61 93 44 51; email account.airworth-eas@airbus.com; website airbus.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fr.inspection@nara.gov, or go to: www.archives.gov/federal-register/cfr/ibr-locations.html.

Issued on July 7, 2023.
Michael Linegang,
Acting Director, Compliance & Airworthiness Division, Aircraft Certification Service.

[FR Doc. 2023-14779 Filed 7-12-23; 8:45 am]

BILLING CODE 4910-13-P